DEPARTMENT OF COMMERCE

National Oceanic and Atmospheric Administration

50 CFR Part 600

[I.D. 050901C]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination that the subject exempted fishing permit (EFP) application contains all the required information and warrants further consideration. The Regional Administrator has also made a preliminary determination that the activities authorized under the EFP would be consistent with the goals and objectives of the Northeast Multispecies Fishery Management Plan (FMP) and within the scope of earlier analyses of the impacts. However, further review and consultation may be necessary before a final determination is made to issue an EFP. Therefore, NMFS announces that the Regional Administrator intends to issue an EFP that would allow one federally permitted groundfish vessel to conduct a composite mesh selectivity study with codend covers having a mesh size smaller than authorized under current regulations to target mixed-groundfish species, primarily yellowtail flounder, winter flounder (blackback), summer flounder (fluke), American plaice (dab) and Atlantic cod. The EFP may also allow access to seasonal area closures in the Gulf of Maine (GOM). The Manomet Center for Conservation Sciences (Manomet) submitted an EFP application to determine the selective efficiency of experimental codends and intends to correlate fish behavior with these findings. Regulations under the Magnuson-Stevens Fishery Conservation and Management Act require publication of this notification to provide interested parties the opportunity to comment on applications for proposed EFPs.

DATES: Comments on this document must be received on or before June 6, 2001.

ADDRESSES: Written comments should be sent to Patricia Kurkul, Regional Administrator, NMFS, Northeast Regional Office, 1 Blackburn Drive, Gloucester, MA 01930. Mark the outside of the envelope “Comments on EFP Proposal”. Comments may also be sent via facsimile (fax) to (978) 281-9135.

FOR FURTHER INFORMATION CONTACT: Allison Ferreira, Fishery Management Specialist, 978-281-9103.

SUPPLEMENTARY INFORMATION: Manomet submitted an industry cooperative proposal on April 20, 2001, for one EFP to conduct a composite codend mesh selectivity study to address bycatch and discard of incidental catch and sublegal sized fish in the mixed-groundfish fisheries of the Northeast. The study would be conducted in that portion of the GOM/Georges Bank Regulated Mesh Area extending east from the New Hampshire shoreline at 43° N. lat./70.75° W. long. to 43° N. lat./69° W. long., then following the 69° W. long. line north to the 44° N. lat./69° W. long. point, and then extending west along the 44° N. lat. to the Maine coastline (44° N. lat./69.154° W. long). The permanent Western GOM closure would not be included in the study area.

This industry collaborative study involves Manomet, the Massachusetts Division of Marine Fisheries, and the Maine Department of Marine Resources as co-principal investigators, and proposes to field test two composite mesh combinations against two industry-standard codend mesh sizes as follows: (1) Two composite codends, one made of 6.5-inch (16.51-cm) square mesh on the top half and 6.5-inch (16.51-cm) diamond mesh on the bottom half, and the other made of 6.5-inch (16.51-cm) square mesh on the top half and 6-inch (15.24-cm) diamond mesh on the bottom half; and (2) two industry-standard codends, one made entirely of 6-inch (15.24-cm) diamond mesh and one made entirely of 6.5-inch (16.51-cm) square mesh.

The purpose of the study is to obtain information on the selective efficiency of the four codend configurations. To obtain this information, the length frequency of the population sampled, as well as that of the population retained by each codend type, need to be known. To accomplish this, a 1 7/8-inch (4.78-cm) codend would be used to cover each of the four test codends in order to retain for analysis fish that pass through the larger-mesh codends.

The catch data for each sample (tow) would be used to prepare species-specific mesh selectivity curves. That is, the research would determine the size of each fish species retained by each of the codends tested versus the fish that are excluded by the codends. Data would be pooled for each of the codends tested and the selective efficiency of each codend would be determined for each important target species. Manomet would also collect behavioral information on the reactions and escape responses of key species to fishing gear by means of underwater video recording during fishing operations.

The field trials would begin on or about June 1, 2001, and continue for up to 6 months in order to allow sufficient time to undertake the experimental work under optimum conditions (i.e., good weather or times of high fish concentration). The applicant anticipates that no more than 10 tows per codend type would be required, for a maximum of 40 tows. These commercial gear trials would operate in the designated study area outside the Western GOM Year Round Closure Area. However, the principal investigator may decide that access to the GOM seasonal closure areas is needed, if efforts to obtain the necessary fish samples outside of these areas are unsuccessful. Should access to these areas be necessary, the GOM seasonal closures that may correspond in time and location with the proposed study area are as follows: Rolling Closure Area IV (June 1 to June 30), the Cashes Ledge Closure Area (July 1 to October 31), Rolling Closure Area V (October 1 to November 30), and possibly the Cashes Ledge Conditional Closure Area (November 1 to November 30).

The experimental sampling design (use of double codend) is intended to minimize the number of tows required to yield the necessary amount of catch information. It is estimated that a minimum of 10 tows (1 hour in length) per codend are required to produce satisfactory selectivity curve results. The target species are yellowtail flounder, winter flounder (blackback), summer flounder (fluke), American plaice (dab) and Atlantic cod. The main incidental species are expected to be skates, smooth and spiny dogfish, sculpin, sea raven and sea robin. During the course of the experimental fishery, the participating vessel would be instructed to conduct normal fishing operations. Therefore, the vessel could only retain fish for commercial sale in the amount allowed under its Federal fisheries permits and Days-at-Sea allocations. The catch would be separated into those fish retained inside the codend and those captured in the codend cover. All fish would be measured and weighed by NMFS-certified observers, and all sub-legal fish would be returned to the sea immediately after processing. No undersized fish would be retained on board the vessel. All data would be entered into NMFS logbooks and submitted to NMFS at the completion of the program. In addition, videotape recordings of fish behavior would continue throughout the gear trials.

One EFP would be issued to a federally permitted Northeast multispecies vessel to exempt it from the gear restrictions and, if necessary, the GOM seasonal closure areas of the FMP..

Authority: 16 U.S.C. 1801 et seq.

Dated: May 15, 2001.
Bruce C. Morehead,
Acting Director, Office of Sustainable Fisheries, National Marine Fisheries Service.

[FR Doc. 01-12871 Filed 5-21-01; 8:45 am]

BILLING CODE 3510-22-S